DEPARTMENT OF ENERGY

Federal Energy Regulatory Commission

[Docket No. ER00-3068-000]

FPL Energy Cape, LLC; Notice of Filing

July 10, 2000.

Take notice that on June 29, 2000, FPL Energy Cape, LLC, 100 Middle Street, Portland Maine 04101, tendered for filing with the Federal Energy Regulatory Commission an application for approval of rate schedule under which they may make wholesale sales of electric energy, capacity, and certain ancillary services at market-based rates pursuant to Section 205 of the Federal Power Act, Part 35 of the Commission's Regulations and Rules 203 and 205 of the Commission's Rules of Practice and Procedure.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before July 20, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

David P. Boergers,
Secretary.

[FR Doc. 00-17819 Filed 7-13-00; 8:45 am]

BILLING CODE 6717-01-M